DEPARTMENT OF COMMERCE

Foreign-Trade Zones Board

[S-215-2025]

Foreign-Trade Zone 163; Application for Subzone; Centro Automotriz Santa Rosa, Inc.; San Juan, Puerto Rico

An application has been submitted to the Foreign-Trade Zones (FTZ) Board by CODEZOL, C.D., grantee of FTZ 163, requesting subzone status for the facilities of Centro Automotriz Santa Rosa, Inc., located in San Juan, Puerto Rico. The application was submitted pursuant to the provisions of the Foreign-Trade Zones Act, as amended (19 U.S.C. 81a-81u), and the regulations of the FTZ Board (15 CFR part 400). It was formally docketed on July 11, 2025.

The proposed subzone would consist of the following sites: Site 1 (0.579 acres) located at Km. 3HM 5, Road 21 PR, southwest corner of John Albert Ernot and Blay Streets in Industrial Bechara Urb, San Juan; and Site 2 (1.841 acres) located at Km. 3HM 5, Road 21 PR, southeast corner of John Albert Ernot and Blay Streets in Industrial Bechara Urb, San Juan. No authorization for production activity has been requested at this time. The proposed subzone would be subject to the existing activation limit of FTZ 163.

In accordance with the FTZ Board's regulations, Camille Evans of the FTZ Staff is designated examiner to review the application and make recommendations to the Executive Secretary.

Public comment is invited from interested parties. Submissions shall be addressed to the FTZ Board's Executive Secretary and sent to: ftz@trade.gov. The closing period for their receipt is August 25, 2025. Rebuttal comments in response to material submitted during the foregoing period may be submitted through September 8, 2025.

A copy of the application will be available for public inspection in the “Online FTZ Information Section” section of the FTZ Board's website, which is accessible via www.trade.gov/ftz.

For further information, contact Camille Evans at Camille.Evans@trade.gov.

Dated: July 11, 2025.
Camille R. Evans,
Acting Executive Secretary.

[FR Doc. 2025-13240 Filed 7-14-25; 8:45 am]

BILLING CODE 3510-DS-P